DEPARTMENT OF AGRICULTURE

Forest Service

Superior National Forest; Minnesota; Rainy River Withdrawal Environmental Assessment

AGENCY: Forest Service, Agriculture (USDA).

ACTION: Notice to extend comment period.

SUMMARY: The Forest Service, U.S. Department of Agriculture, has prepared an environmental assessment to support its application for a 20-year withdrawal of the Rainy River watershed from disposition of Federally owned minerals under United States mineral and geothermal leasing laws. The intent of the requested withdrawal is to protect and preserve natural and cultural resources in the Rainy River watershed, including the Boundary Waters Canoe Area Wilderness (BWCAW), Mining Protection Area (MPA), and the 1854 Ceded Territory, from the known and potential adverse environmental impacts arising from exploration and development of Federally owned minerals. This notice is to inform the public that the Forest Service is extending the opportunity to comment on the environmental assessment by 15 days.

DATES: Comments concerning the environmental assessment must be received by Friday, August 12, 2022.

ADDRESSES: The environmental assessment and supporting documents are available on the project web page at http://go.usa.gov/xtaCw. Electronic comments are preferred through the project website at https://go.usa.gov/xuH43. Comments may also be sent electronically to comments-eastern-superior@usda.gov. Written comments may be sent to Forest Headquarters, 8901 Grand Avenue Place, Duluth, MN 55808.

FOR FURTHER INFORMATION CONTACT: Matt Judd, Minerals Project Manager, at matthew.judd@usda.gov or 218-626-4300.

Individuals who use telecommunication devices for the deaf and hard of hearing (TDD) may call the Federal Relay Service (FRS) at 1-800-877-8339, 24 hours a day, every day of the year, including holidays.

SUPPLEMENTARY INFORMATION:

Purpose and Need for Action

The purpose of the requested withdrawal is to protect and preserve natural and cultural resources in the Rainy River watershed, including the BWCAW, MPA, and the 1854 Ceded Territory, from the known and potential adverse environmental impacts arising from exploration and development of Federally owned minerals. The withdrawal is needed because the Forest Service and the Bureau of Land Management (BLM) have seen and can reasonably anticipate increasing interest within the private sector for developing the copper-nickel ore minerals in the Duluth Complex that may adversely impact the Rainy River watershed.

Proposed Action

The Secretary of the Interior would issue a public land order, and approximately 225,504 acres of National Forest System lands in the Rainy River watershed would be withdrawn from disposition under the United States mineral and geothermal leasing laws for a 20-year term, subject to valid existing rights. The withdrawal would restrict the BLM from processing or issuing new hardrock prospecting permits and mineral leases on National Forest System lands in the withdrawal boundary. However, the withdrawal would not prohibit ongoing or future exploration or mining extraction operations on valid existing rights, as determined by the BLM.

The withdrawal would not prohibit activities on non-federal (surface and mineral) ownerships. State, county, and private mineral interests could continue to exercise their ownership rights. However, if fee simple title of these lands and minerals were acquired by the United States during the withdrawal period, through means such as purchase or exchange to be managed by the Forest Service, such acquisitions would be subject to the withdrawal. Partial federal mineral interests, where the Federal government owns less than 100 percent of the mineral estate, would also not be affected by the withdrawal. No other management changes would be made affecting access to private inholdings, federal mineral material operations (sand, gravel, and dimension stone), or management of other forest resources such as timber, wildlife, and recreation.

Lead and Cooperating Agencies

The Forest Service is the lead agency for preparing the environmental assessment. The BLM is a cooperating agency for the NEPA analysis (40 CFR 1508.1(e)). The BLM will independently evaluate and review the analysis and any other documents needed for the Secretary of the Interior to make a decision on the requested withdrawal.

Responsible Official

The Secretary of the Interior is the decision-maker for the requested withdrawal.

How To Comment

Comments may be submitted in electronic (preferred) or hard-copy form to the website or addresses provided in the ADDRESSES section of this notice. It is important that reviewers provide their comments at such times and in such manner that they are useful to the agency's preparation of the environmental assessment. Therefore, comments should be provided prior to the close of the comment period and should clearly articulate the reviewer's concerns and contentions.

The proposed withdrawal is not subject to Forest Service objection procedures at 36 CFR 218 because the decision to be made is by the Secretary of the Interior.

Dated: July 18, 2022.
Deborah Hollen,
Acting Associate Deputy Chief, National Forest System.

[FR Doc. 2022-15589 Filed 7-20-22; 8:45 am]

BILLING CODE 3411-15-P